DEPARTMENT OF HOMELAND SECURITY

Federal Emergency Management Agency

[Docket ID FEMA-2009-0001]

Agency Information Collection Activities: Proposed Collection; Comment Request, 1660-NEW; FEMA's Grants Reporting Tool (GRT)

AGENCY: Federal Emergency Management Agency, DHS.

ACTION: Notice; 60-day notice and request for comments; new information collection; OMB No. 1660-NEW; FEMA Form—None.

SUMMARY: The Federal Emergency Management Agency, as part of its continuing effort to reduce paperwork and respondent burden, invites the general public and other Federal agencies to take this opportunity to comment on a proposed new information collection. In accordance with the Paperwork Reduction Act of 1995, this Notice seeks comments concerning the collection of information necessary for the Grants Reporting Tool (GRT).

DATES: Comments must be submitted on or before January 19, 2010.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Paul Belkin, Program Analyst, Grant Programs Directorate, 202-786-9771 for additional information. You may contact the Records Management Branch for copies of the proposed collection of information at facsimile number (202) 646-3347 or e-mail address: FEMA-Information-Collections@dhs.gov.

SUPPLEMENTARY INFORMATION: Title 44 CFR, part 13, Uniform Administrative Requirements for Grants and Cooperative Agreements to State and Local Government establishes uniform administrative rules for Federal grants and cooperative agreements and sub-awards to State, local and Indian tribal governments. FEMA has determined that in order to have consistent implementation of FEMA grant administration policies, to reduce duplicative and tedious data entry, to more effectively measure preparedness gains, and to streamline application submission and management for Grantees, Regions, State and local partners, it is necessary to automate the reporting processes.

The Homeland Security Presidential Directive (HSPD-5) related to the “Management of Domestic Incidents” gives the Secretary the authority to gather information related to domestic incidents and mandates the Secretary provide standardized, quantitative reports on the readiness and preparedness of the Nation—at all levels of government—to prevent, prepare for, respond to, and recover from domestic incidents.

The Homeland Security Presidential Directive (HSPD-8) related to “National Preparedness” authorizes the Federal government to deliver Federal preparedness awards to the States. Applicants must apply the funds to the highest priority preparedness requirements at the appropriate level of government. Federal preparedness assistance is based upon the adoption of statewide comprehensive all-hazards preparedness strategies, consistent with the national preparedness goal. HSPD-8 authorizes the Secretary to review and approve strategies submitted by the States and establishes the requirement that applicants must have adopted approved statewide strategies in order to receive Federal grant funds. Further, HSPD-8 authorizes Federal departments and agencies to develop appropriate mechanisms to ensure rapid obligation and disbursement of funds from their programs to the States, such as the GRT. HSPD-8 mandates Federal departments and agencies report annually on the obligation, expenditure status, and the use of funds associated with Federal preparedness assistance programs.

Section 430 of the Homeland Security Act of 2002, as amended (6 U.S.C. 238), authorized the Office for Domestic Preparedness (ODP, which was transferred to FEMA by the Post Katrina Emergency Management Reform Act of 2006, Pub. L. 109-295) to have primary responsibility for national preparedness, including directing and supervising terrorism preparedness grant programs for emergency response providers and incorporating the Strategy priorities into planning guidance on an agency level for the overall national preparedness efforts. ODP (now FEMA) was authorized to develop a process for receiving meaningful input from State and local government to assist the development of the national strategy for combating terrorism and other homeland security activities.

Collection of Information

Title: FEMA's Grants Reporting Tool (GRT).

Type of Information Collection: New information collection.

OMB Number: 1660-NEW.

Form Titles and Numbers: FEMA Form—None.

Abstract: GRT is the collection of financial and programmatic information from States and local governments pertaining to grant and cooperative agreement awards. The information enables FEMA to evaluate applications and make award decisions, monitor ongoing performance and manage the flow of Federal funds, and to appropriately close out grants or cooperative agreements. GRT supports the information collection needs of each grant program processed in the system.

Affected Public: State, Local, or Tribal Government.

Estimated Total Annual Burden Hours: 2,492 hours.

Table A.12—Estimated Annualized Burden Hours and Costs
Type of respondent | Form name/form No. | Number of respondents | Number of responses per respondent | Total No. of responses | Avg. burden per response (in hours) | Total annual burden (in hours) | Avg. hourly wage rate * | Total annual respondent cost
State, Local or Tribal Government | Initial Strategy Implementation Plan (ISIP) | 56 | 1 | 56 | 8 | 448 | $32.20 | $14,425.60
State, Local or Tribal Government | Biannual Strategy Implementation Report (BSIR) | 56 | 2 | 112 | 15.25 | 1,708 | 32.20 | 54,997.60
State, Local or Tribal Government | Investment Justification (IJ) | 56 | 1 | 56 | 6 | 336 | 32.20 | 10,819.20
Total |  | 56 |  |  |  | 2,492 |  | 80,242.40

Estimated Cost: There is no annual reporting recordkeeping cost associated with this collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-27552 Filed 11-16-09; 8:45 am]

BILLING CODE 9111-78-P